DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel; NCI Omnibus SEP-4 R03 & R21.

Date: March 3-4, 2016.

Time: 6:00 p.m. to 4:00 p.m.

Agenda: To review and evaluate grant applications.

Place: Bethesda North Marriott Hotel & Conference Center; Montgomery County Conference Center Facility; 5701 Marinelli Road; North Bethesda, MD 20852.

Contact Person: Clifford W. Schweinfest, Ph.D.; Scientific Review Officer; Special Review Branch; Division of Extramural Activities; National Cancer Institute; 9609 Medical Center Drive, Room 7W108; Bethesda, MD 20892-9750; 240-276-6343; schweinfestcw@mail.nih.gov.

Name of Committee: National Cancer Institute Special Emphasis Panel; R13 Conference Grant Review.

Date: March 2, 2016.

Time: 1:00 p.m. to 5:30 p.m.

Agenda: To review and evaluate grant applications.

Place: National Cancer Institute Shady Grove; 9609 Medical Center Drive; Room 7W556; Rockville, MD 20850; (Telephone Conference Call).

Contact Person: Bratin K. Saha, Ph.D.; Scientific Review Officer; Program Coordination and Referral Branch; Division Of Extramural Activities; National Cancer Institute; 9609 Medical Center Drive, Room 7W556; Bethesda, MD 20892-9750; 240-276-6411; sahab@mail.nih.gov

Name of Committee: National Cancer Institute Special Emphasis Panel; Innovative Molecular Analysis Technologies for Cancer Research.

Date: March 8, 2016.

Time: 8:00 a.m. to 5:00 p.m.

Agenda: To review and evaluate grant applications.

Place: Ritz-Carlton Hotel at Pentagon City; 1250 South Hayes Street; Arlington, VA 22202.

Contact Person: Gerard Lacourciere, Ph.D.; Scientific Review Officer; Research Technology and Contract Review Branch; Division of Extramural Activities; National Cancer Institute, NIH; 9609 Medical Center Drive, 7W248; Rockville, MD 20850; 240-276-5457; gerard.lacourciere@mail.nih.gov.

Name of Committee: National Cancer Institute Special Emphasis Panel NCI Provocative Questions—6.

Date: March 10, 2016.

Time: 11:00 a.m. to 5:00 p.m.

Agenda: To review and evaluate grant applications.

Place: National Cancer Institute Shady Grove; 9609 Medical Center Drive; Room 7W032; Rockville, MD 20850 (Telephone Conference Call)

Contact Person: Thomas A. Winters, Ph.D.; Scientific Review Officer; Special Review Branch; Division of Extramural Activities; National Cancer Institute, NIH; 9609 Medical Center Drive, Room 7W412; Rockville, MD 20850; 240-276-6386; twinters@mail.nih.gov.

Name of Committee: National Cancer Institute Special Emphasis Panel Omnibus SEP-11B.

Date: March 17, 2016.

Time: 10:00 a.m. to 5:00 p.m.

Agenda: To review and evaluate grant applications.

Place: National Cancer Institute Shady Grove; 9609 Medical Center Drive; Room 6W032; Rockville, MD 20850; (Telephone Conference Call).

Contact Person: Majed M. Hamawy, Ph.D.; Scientific Review Officer; Research Programs Review Branch; Division of Extramural Activities; National Cancer Institute, NIH; 9609 Medical Center Drive, Room 7W120; Bethesda, MD 20892-8328; 240-276-6457; mh101v@nih.gov.

Name of Committee: National Cancer Institute Special Emphasis Panel Omnibus SEP-16 R03 & R21.

Date: March 31, 2016.

Time: 12:00 p.m. to 5:00 p.m.

Agenda: To review and evaluate grant applications.

Place: National Cancer Institute Shady Grove; 9609 Medical Center Drive; Room 7W554; Rockville, MD 20850; (Telephone Conference Call).

Contact Person: Christopher L. Hatch, Ph.D.; Chief Program Coordination & Referral Branch; Division of Extramural Activities; National Cancer Institute, NIH; 9609 Medical Center Drive, Room 7W554; Bethesda, MD 20892-8328; 240-276-6457 ch29v@nih.gov.

Name of Committee: National Cancer Institute Special Emphasis Panel; NCI Provocative Questions Review—PQ 9.

Date: April 5, 2016.

Time: 9:00 a.m. to 2:00 p.m.

Agenda: To review and evaluate grant applications.

Place: National Cancer Institute Shady Grove; 9609 Medical Center Drive; Room 7W126 Rockville, MD 20850 (Telephone Conference Call).

Contact Person: Caron A. Lyman, Ph.D.; Chief, Scientific Review Officer; Research Programs Review Branch; Division of Extramural Activities; National Cancer Institute, NIH; 9609 Medical Center Drive, Room 7W126; Bethesda, MD 20892-8328; 240-276-6348; lymanc@nih.gov.

Name of Committee: National Cancer Institute Special Emphasis Panel; NCI Provocative Questions Review—PQ 4.

Date: April 6, 2016.

Time: 1:00 p.m. to 3:00 p.m.

Agenda: To review and evaluate grant applications.

Place: National Cancer Institute Shady Grove; 9609 Medical Center Drive; Room 7W126; Rockville, MD 20850 (Telephone Conference Call).

Contact Person: Caron A. Lyman, Ph.D.; Chief, Scientific Review Officer Research Programs Review Branch; Division of Extramural Activities; National Cancer Institute, NIH; 9609 Medical Center Drive, Room 7W126; Bethesda, MD 20892-8328; 240-276-6348; lymanc@nih.gov.

Information is also available on the Institute's/Center's home page: http://deainfo.nci.nih.gov/advisory/sep/sep.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: January 20, 2016.
Melanie J. Gray,
Program Analyst, Office of Federal Advisory Committee Policy.

[FR Doc. 2016-01367 Filed 1-25-16; 8:45 am]

BILLING CODE 4140-01-P